DEPARTMENT OF COMMERCE

[I.D. 030802B]

Submission for OMB Review; Comment Request

The Department of Commerce has submitted to the Office of Management and Budget (OMB) for emergency clearance the following proposal for collection of information under the provisions of the Paperwork Reduction Act (44 U.S.C. Chapter 35).

Agency: National Oceanic and Atmospheric Administration (NOAA).

Title: Survey to Measure Effectiveness of Community-Oriented Policing for ESA Enforcement.

Form Number(s): None.

OMB Approval Number: 0648-0435.

Type of Request: Emergency submission.

Burden Hours: 316.

Number of Respondents: 787.

Average Hours Per Response: 20 minutes for a citizen survey; 45 minutes for a survey of Washington Department of Fish and Wildlife personnel; and 60 minutes for interviews of public officials, key stakeholders, and Washington Department of Fish and Wildlife managers.

Needs and Uses: Community-oriented policing (COP) promotes the use of various resources and policing-community partnerships for developing strategies to identify, analyze, and address community problems at their source. Recognizing the significant role non-traditional enforcement efforts will play in Endangered Species Act enforcement in the Northwest, a measurement tool has been developed to ensure that the performance outcomes of these non-traditional enforcement (COP) efforts are effectively measured. Through this instrument, COP efforts can be evaluated for success and elements essential for achieving successful outcomes in future programs can be identified and quantified. Anadromous species enforcement will be the focus of the survey, and the surveys/interviews will take place in the Walla Walla and Cherry Creek river basins.

Affected Public: Individuals or households, and State, Local, or Tribal Government.

Frequency: One-time.

Respondent's Obligation: Voluntary.

OMB Desk Officer: David Rostker, (202) 395-3897.

Copies of the above information collection proposal can be obtained by calling or writing Madeleine Clayton, Departmental Paperwork Clearance Officer, (202) 482-3129, Department of Commerce, Room 6608, 14th and Constitution Avenue, NW, Washington, DC 20230 (or via the Internet at MClayton@doc.gov).

Written comments and recommendations for the proposed information collection should be sent by April 19, 2002 to David Rostker, OMB Desk Officer, Room 10202, New Executive Office Building, Washington, DC 20503.

Dated: March 7, 2002.
Gwellnar Banks,
Management Analyst, Office of the Chief Information Officer.

[FR Doc. 02-6184 Filed 3-14-02; 8:45 am]

BILLING CODE 3510-22-S